DEPARTMENT OF HEALTH AND HUMAN SERVICES

National Institutes of Health

National Institute of Mental Health; Notice of Meeting

AGENCY: National Institute of Mental Health (NIMH), HHS.

ACTION: Notice of meeting.

SUMMARY: Pursuant to the NIH Reform Act of 2006 (42 U.S.C. 281(d)(4)), notice is hereby given that the National Institute of Mental Health (NIMH) will host a meeting to enable public discussion of the Institute's proposal to merge the Division of Adult Translational Research with the Division of Translational Research. The proposal seeks to capitalize on emerging scientific opportunities, while reducing barriers to scientific and interdisciplinary collaboration.

This public meeting will take place on August 28, 2014. Information is available on the Institute's Web site, http://www.nimh.nih.gov/index.shtml, where links to an agenda and any additional information for the meeting will be posted when available.

DATES: The public hearing will be available to view on August 28, 2014.

ADDRESSES: The public hearing will be recorded at the Neuroscience Center, 6001 Executive Boulevard, Rockville, MD 20852. To access the agenda and overview of the organizational change, please go to the following Web site: http://www.nimh.nih.gov/index.shtml. To comment or ask a question about the reorganization, please go to the following Web site: NIMH OrgChangeComment@mail.nih.gov. To view the webinar, which will be posted on YouTube on August 28, 2014, go to the following Web site: www.nimh.nih.gov/TransResOrgChange.

FOR FURTHER INFORMATION CONTACT: Martha Canning, National Institute of Mental Health, NIH, MASB/ORM, Neuroscience Center, 6001 Executive Boulevard, Rockville, MD 20852, at NIMHOrgChangeComment@mail.nih.gov.

Members of the public wishing to have their questions or comments addressed related to this presentation on the reorganization need to send them to the following email address by September 3, 2014: NIMHOrgChangeComment@mail.nih.gov. Individuals will be able to watch the presentation via a YouTube webinar. Please go to the following link to view the webinar: www.nimh.nih.gov/TransResOrgChange.

Any interested person may file written comments by sending an email to the following email address: NIMHOrgChangeComment@mail.nih.gov, by September 3, 2014. The statement should include the individual's name and, when applicable, professional affiliation. Responses will be sent by September 5.

SUPPLEMENTARY INFORMATION: The agenda of the public meeting will enable public discussion on the proposed reorganization plans for NIMH. This meeting will be in the form of a webinar posted on YouTube on August 28, 2014. 508 Compliance Note: All training or informational video and multimedia productions made available to the public must be captioned (user selects the captioning to be turned on so that the words appear on the screen) for persons who are hard of hearing or deaf, and the audio described (spoken words) for persons who are blind or have low vision. The following email address has been established to receive questions and/or comments on the reorganization: NIMHOrgChangeComment@mail.nih.gov. It will remain available, through September 3, to the public for comments after the YouTube webinar has been aired. To watch the webinar on YouTube, go to: www.nimh.nih.gov/TransResOrgChange to view/access the presentation.

Dated: August 13, 2014.
Ann D. Huston,
Acting Executive Officer, National Institute of Mental Health, National Institutes of Health.

[FR Doc. 2014-19636 Filed 8-18-14; 8:45 am]

BILLING CODE 4140-01-P